DEPARTMENT OF COMMERCE

National Institute of Standards and Technology

Electroshock Weapons Test and Measurement Workshop

AGENCY: National Institute of Standards and Technology (NIST), United States Department of Commerce.

ACTION: Notice of public meeting.

SUMMARY: NIST invites stakeholders (manufacturers, law enforcement, corrections, academia, military, test instrument manufacturers, etc.) of electroshock weapons that provide stand-off delivery of an electric shock to attend a public meeting. The purpose of the meeting is to discuss the need for standardized methods of testing the proper operation and performance of ESWs as well as other issues important to the stakeholder community. Attendance is limited to 45 and registration will be conducted on a first-come first-served basis. Teleconferencing will also be available and also requires pre-registration.

DATES: The public meeting will be held on Friday, 21 January 2011 from 0900 to 1700.

ADDRESSES: The public meeting will be held at NIST, 100 Bureau Drive, Gaithersburg, MD. Information on accommodations, location, and travel can be found at: http://www.nist.gov/public_affairs/visitor/visitor.htm. Please note admittance and teleconference participation instructions under the SUPPLEMENTARY INFORMATION section of this notice.

FOR FURTHER INFORMATION CONTACT: Cindy Stanley at 301-975-2756 or by e-mail at cindy.stanley@nist.gov.

SUPPLEMENTARY INFORMATION: To support the development of rigorous performance requirements for electroshock weapons, the Law Enforcement Standards Office (OLES) at NIST has developed methods to measure the current and high-voltage output of these weapons, to calibrate these measurement methods, and to compute measurement uncertainties.

All visitors to the NIST site are required to pre-register to be admitted. Anyone wishing to attend this meeting must register by close of business Friday, 14 January 2011. Please contact Cindy Stanley with your interest to participate and, pending availability of space, she will provide you with instructions for admittance. Non-U.S. citizens must also complete form NIST 1260, which can be requested from Cindy Stanley. Cindy Stanley's e-mail address is cindy.stanley@nist.gov and phone number is 301-975-2756.

In addition, members of the public who wish to participate in the meeting by teleconference must provide Ms. Stanley with their name, email address, and telephone number. Ms. Stanley will provide teleconference information prior to the meeting.

Dated: January 4, 2011.
Charles H. Romine,
Acting Associate Director for Laboratory Programs.

[FR Doc. 2011-114 Filed 1-6-11; 8:45 am]

BILLING CODE 3510-13-P